CONSUMER PRODUCT SAFETY COMMISSION

Sunshine Act Meetings

Federal Register Citation of Previous Announcement: Vol. 76, No. 122, Friday, June 24, 2011, page 37070.

Previously Announced Time and Date of Meetings: 1. Open to Public—10 a.m.-12 Noon., and 2. Closed to Public—2-3 p.m., Wednesday June 29, 2011.

Changes in Meetings:

1. For Meeting Open to the Public, rescheduled to 9-11 a.m.;

2. Revised Agenda: 1. Briefing Matter: Lead 100 ppm, 2. Decisional Matter: Final 15(j) Rule for Drawstrings;

3. Time for Closed Compliance Status Report rescheduled to 11 a.m.-12 Noon;

For a recorded message containing the latest agenda information, call (301) 504-7948.

Contact Person for Additional Information: Todd A. Stevenson, Office of the Secretary, 4330 East West Highway, Bethesda, MD 20814, (301) 504-7923.

Dated: June 28, 2011.
Todd A. Stevenson,
Secretary.

[FR Doc. 2011-16588 Filed 6-28-11; 4:15 pm]

BILLING CODE 6355-01-P